COMMODITY FUTURES TRADING COMMISSION

Sunshine Act Meeting Notice

Agency Holding the Meeting: Commodity Futures Trading Commission.

Date and Time: May 19, 2010 at 9:30 a.m.

Place: Three Lafayette Centre, 1155 21st St., NW., Washington, DC, Lobby Level Hearing Room (Room 1000).

Status: Open.

Matters to be Considered: Agenda: (1) Consideration of the trading of futures and binary options based on motion picture box office receipts and to gather the views of interested parties; and (2) Reestablishment of the CFTC Technology Advisory Committee.

Contact Person: Sauntia Warfield, Assistant Secretary, 202-518-5084.

SUPPLEMENTARY INFORMATION: The Commission is undertaking a review of issues related to the trading of futures or options related to motion picture box office receipts. The Commission will have oral presentations by panels of invited witnesses representing Media Derivatives Exchange (MDEX), Cantor Exchange (Cantor), segments of the motion picture industry, and other interested parties.

The hearing will generally focus on a number of issues, including: whether box office receipts contracts are readily susceptible to manipulation; whether the box office data used to settle the contracts are acceptable and reliable; whether the Media Derivatives Exchange, Inc. (“MDEX”) Takers opening weekend motion picture revenues collared futures and binary option contracts, and the Cantor Exchange (“Cantor”) The Expendables domestic box office receipt futures contract could be used for risk management purposes; whether safeguards adopted by MDEX and Cantor are appropriate; and whether those safeguards would have an adverse effect on entities that might otherwise be able to use the contracts for risk management.

Written comments may be submitted until May 26, 2010. Written materials should be mailed to the Commodity Futures Trading Commission, Three Lafayette Centre, 1155 21st Street, NW., Washington, DC, 20581, attention Office of the Secretariat; transmitted by facsimile at 202-418-5521; or transmitted electronically to [boxofficereceipts@cftc.gov]. Reference should be made to “Box Office Receipts.” All comments received and a copy of the transcript of the hearing will be entered into the Commission's public files in the matters related to MDEX's Takers opening weekend motion picture revenues collared futures and binary option contracts and Cantor's The Expendables domestic box office receipt futures contract.

The Commission will also consider reestablishing its CFTC Technology Advisory Committee. The purpose of the CFTC Technology Advisory Committee would be to conduct public meetings, to submit reports and recommendations to the Commission, and to otherwise assist the Commission in identifying and understanding how new developments in technology are being applied and utilized in the industry, and their impact on the operation of the markets. The committee would allow the Commission to be an active participant in market innovation, explore the appropriate investment in technology, and advise the Commission on the need for strategies to implement rules and regulations to support the Commission's mission of ensuring the integrity of the markets.

Issued in Washington, DC, on May 7, 2010.
David A. Stawick,
Secretary of the Commission.

[FR Doc. 2010-11395 Filed 5-10-10; 11:15 am]

BILLING CODE 6351-01-P